FEDERAL TRADE COMMISSION

Granting of Requests for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted May 1, 2019 Thru May 31, 2019
05/01/2019
20191137 | G | Ford Motor Company; Rivian Automotive, Inc.; Ford Motor Company.
05/02/2019
20191165 | G | Wind Point Partners VIII-A, L.P.; Mason Wells Buyout Fund III, LP; Wind Point Partners VIII-A, L.P.
20191176 | G | 1982 Smith Children's Trust; Klondike Holdings, LLC; 1982 Smith Children's Trust.
20191177 | G | 1982 Hemingway Family Trust; Klondike Holdings, LLC; 1982 Hemingway Family Trust.
20191199 | G | Starwood Energy Infrastructure Fund III U.S. Investor, L.P.; Volt Parent, LP; Starwood Energy Infrastructure Fund III U.S. Investor, L.P.
20191201 | G | KKR Americas Fund XII, L.P.; Oregon Dental Service; KKR Americas Fund XII, L.P.
05/03/2019
20190383 | G | International Business Machines Corporation; Red Hat, Inc.; International Business Machines Corporation.
20191203 | G | Macquarie Group Limited; The Independent Order of Foresters; Macquarie Group Limited.
20191207 | G | salesforce.com, inc.; MapAnything, Inc.; salesforce.com, inc.
20191208 | G | Best Buy Co., Inc.; Critical Signal Technologies, Inc.; Best Buy Co., Inc.
20191209 | G | Seminole HR Holdings, LLC; Mr. Daniel B. Gilbert; Seminole HR Holdings, LLC.
20191211 | G | Unilever N.V.; Olly Public Benefit Corporation; Unilever N.V.
20191213 | G | Siris Partners IV, L.P.; Electronics For Imaging, Inc.; Siris Partners IV, L.P.
20191214 | G | Mitsubishi Heavy Industries, Ltd.; Wijnand Nicolaas Pon; Mitsubishi Heavy Industries, Ltd.
20191215 | G | AP IX First Street Holdings, L.P.; Smart & Final Stores, Inc.; AP IX First Street Holdings, L.P.
20191219 | G | Butterfly Generis Co-Invest, LP; Campbell Soup Company; Butterfly Generis Co-Invest, LP.
20191220 | G | Tailwind Capital Partners III, L.P.; Linsalata Capital Partners Fund VI, L.P.; Tailwind Capital Partners III, L.P.
20191223 | G | DCP Capital Partners, L.P.; American Industrial Partners Capital Fund V, L.P.; DCP Capital Partners, L.P.
20191228 | G | William K. Reagan; GTCR Fund XI/B LP; William K. Reagan.
05/07/2019
20190924 | G | Warburg Pincus Private Equity XII, L.P.; Dr. David Stern; Warburg Pincus Private Equity XII, L.P.
20191227 | G | MiddleGround Partners I, L.P.; Gary Wendorff; MiddleGround Partners I, L.P.
05/08/2019
20190958 | G | Thoma Bravo Discover Fund II, L.P.; Louis C. Werderich; Thoma Bravo Discover Fund II, L.P.
20191216 | G | Goldman Sachs Renewable Power LLC; Macquarie Infrastructure Corporation; Goldman Sachs Renewable Power LLC.
20191218 | G | Temasek Holdings (Private) Limited; MIP Penn Terminals Holdings, LLC; Temasek Holdings (Private) Limited.
05/09/2019
20191103 | G | Halmont Properties Corporation; Oaktree Capital Group Holdings, L.P.; Halmont Properties Corporation.
20191166 | G | Green Equity Investors Side VII, L.P.; Catalent, Inc.; Green Equity Investors Side VII, L.P.
20191167 | G | Green Equity Investors VII, L.P.; Catalent, Inc.; Green Equity Investors VII, L.P.
20191170 | G | Catalent, Inc.; Paragon Bioservices, Inc.; Catalent, Inc.
20191204 | G | salesforce.com, Inc.; salesforce.org; salesforce.com, Inc.
20191221 | G | Generate Capital, Inc.; AMP Americas, LLC; Generate Capital, Inc.
20191222 | G | Jacobs Engineering Group Inc.; The KeyW Holding Corporation; Jacobs Engineering Group Inc.
05/13/2019
20191232 | G | Shanghai RAAS Blood Products Co., Ltd.; Grifols, S.A.; Shanghai RAAS Blood Products Co., Ltd.
20191235 | G | DIF Infrastructure V Cooperatief U.A.; Macquarie Infrastructure Corporation; DIF Infrastructure V Cooperatief U.A.
20191237 | G | Marquee Brands Partners, LP; Sequential Brands Group, Inc.; Marquee Brands Partners, LP.
20191238 | G | John Bean Technologies Corporation; Robert J. Hargreaves; John Bean Technologies Corporation.
20191239 | G | John Bean Technologies Corporation; Stephen M. Malone; John Bean Technologies Corporation.
20191242 | G | PAI Europe VII-1 SCSp; Elior Group SA; PAI Europe VII-1 SCSp.
20191243 | G | Deutsche Borse AG; Axioma, Inc.; Deutsche Borse AG.
20191247 | G | The Resolute Fund IV, L.P.; Dr. Babak Daneshrad; The Resolute Fund IV, L.P.
20191252 | G | Peppertree Capital Fund VII QP, LP; William G. Davis; Peppertree Capital Fund VII QP, LP.
20191253 | G | Yeung Family Trust V; Safanad Limited; Yeung Family Trust V.
20191258 | G | John Laing Group plc; ENGIE S.A.; John Laing Group plc.
20191262 | G | Bain Capital Fund XII, L.P.; Audax Private Equity Fund V-A, L.P.; Bain Capital Fund XII, L.P.
20191263 | G | PayPal Holdings, Inc.; Uber Technologies, Inc.; PayPal Holdings, Inc.
20191264 | G | Marathon Petroleum Corporation; James D. Newman; Marathon Petroleum Corporation.
20191265 | G | Marathon Petroleum Corporation; Michael F. Newman; Marathon Petroleum Corporation.
20191272 | G | H.I.G. Capital Partners V, L.P.; Riveron Holdings, LP; H.I.G. Capital Partners V, L.P.
05/14/2019
20191268 | G | True Wind Capital, L.P.; Zix Corporation; True Wind Capital, L.P.
05/15/2019
20191230 | G | New Lux SCSp; iContracts, Inc.; New Lux SCSp.
05/17/2019
20191026 | G | Black Ridge Acquisition Corp.; Ourgame International Holdings Limited; Black Ridge Acquisition Corp.
20191234 | G | HCA Healthcare, Inc.; Isleworth Partners, Inc.; HCA Healthcare, Inc.
20191270 | G | Post Holdings, Inc.; TreeHouse Foods, Inc.; Post Holdings, Inc.
20191276 | G | Principal Financial Group, Inc.; Wells Fargo & Company; Principal Financial Group, Inc.
20191277 | G | Sealed Air Corporation; APS Holding Company, Inc.; Sealed Air Corporation.
20191278 | G | Jeffrey O. Spiegel; Pou Chen Corporation; Jeffrey O. Spiegel.
20191279 | G | Astorg VI SLP; Merz Holding GmbH & Co. KG; Astorg VI SLP.
20191283 | G | Thoma Bravo Fund XIII-A, L.P.; KKR North America Fund XI, L.P.; Thoma Bravo Fund XIII-A, L.P.
20191286 | G | Rocket Internet Capital Partners (Euro) SCS; JRSK, Inc.; Rocket Internet Capital Partners (Euro) SCS.
20191287 | G | Rocket Internet Capital Partners SCS; JRSK, Inc.; Rocket Internet Capital Partners SCS.
20191289 | G | Cable One, Inc.; Fidelity Communications Co.; Cable One, Inc.
20191290 | G | Gauge Capital II, L.P.; Genossenschaft Constanter; Gauge Capital II, L.P.
20191292 | G | Kali P. Chaudhuri, trustee; Verity Health System of California, Inc.; Kali P. Chaudhuri, trustee.
20191295 | G | Xilinx, Inc.; Solarflare Communications, Inc.; Xilinx, Inc.
20191299 | G | Genstar Capital Partners IX, L.P.; Pegasus Global Enterprise Holdings, LLC; Genstar Capital Partners IX, L.P.
20191300 | G | Clearlake Capital Partners V, L.P.; Dude Solutions Holdings, Inc.; Clearlake Capital Partners V, L.P.
20191303 | G | General Atlantic Partners 100, L.P.; Alkami Technology, Inc.; General Atlantic Partners 100, L.P.
20191309 | G | Confluent Health Holdings L.P.; Confluent Health, LLC; Confluent Health Holdings L.P.
20191310 | G | H.I.G. Capital Partners V, L.P.; Centerbridge Credit Partners Master, L.P.; H.I.G. Capital Partners V, L.P.
05/20/2019
20191301 | G | Francisco Partners V, L.P.; Perforce Software Investment Holdings, L.P.; Francisco Partners V, L.P.
20191304 | G | Francisco Partners V-A, L.P.; Perforce Software Investment Holdings, L.P.; Francisco Partners V-A, L.P.
20191307 | G | Glencore plc; PolyMet Mining Corp; Glencore plc.
20191312 | G | Mountaingate Capital Fund I, L.P.; Meritdirect LLC; Mountaingate Capital Fund I, L.P.
05/21/2019
20191259 | G | Genossenschaft Constanter; Daniel S. O'Connell; Genossenschaft Constanter.
05/22/2019
20191250 | G | RWE Aktiengesellschaft; E.ON SE; RWE Aktiengesellschaft.
20191260 | G | Longleaf Partners Funds Trust; CNX Resources Corporation; Longleaf Partners Funds Trust.
20191273 | G | Blackstone Energy Partners II Q L.P.; PDC Energy, Inc.; Blackstone Energy Partners II Q L.P.
20191275 | G | The Lundbeck Foundation; CHP III, L.P.; The Lundbeck Foundation.
20191282 | G | WaterBridge Holdings LLC; PDC Energy, Inc.; WaterBridge Holdings LLC.
20191293 | G | DSV A/S; Panalpina Welttransport (Holding) AG; DSV A/S.
05/31/2019
20191249 | G | E.ON SE; RWE Aktiengesellschaft; E.ON SE.
20191255 | G | Murphy Oil Corporation; Gerald A. Boelte; Murphy Oil Corporation.
20191261 | G | Publicis Groupe S.A.; Alliance Data Systems Corporation; Publicis Groupe S.A.
20191288 | G | Rocket Internet SE; JRSK, Inc.; Rocket Internet SE.
20191297 | G | KWOR Holdings, L.P.; Aquiline Worley Parent LLC; KWOR Holdings, L.P.
20191315 | G | KPS Special Situations Fund IV, LP; Brunswick Corporation; KPS Special Situations Fund IV, LP.
20191316 | G | Serent Capital III, L.P.; Collections Acquisition Company, Inc. d/b/a Payliance, Inc.; Serent Capital III, L.P.
20191317 | G | Samuel A. Calagione III; C. James Koch; Samuel A. Calagione III.
20191318 | G | C. James Koch; Samuel A. Calagione III; C. James Koch.
20191326 | G | Francisco Partners III (Cayman), L.P.; Greg E. Lindberg; Francisco Partners III (Cayman), L.P.
20191331 | G | KKR Americas Fund XII, L.P.; Vector Capital II/III Extension, L.P.; KKR Americas Fund XII, L.P.
20191334 | G | William G. Davis; LCM Investments Holdings II, LLC; William G. Davis.
20191335 | G | Perrigo Company plc; Susan R. Kiphart; Perrigo Company plc.
20191336 | G | Shell Midstream Partners, L.P; Colonial Pipeline Company; Shell Midstream Partners, L.P.
20191337 | G | Shell Midstream Partners, L.P; Explorer Pipeline Company; Shell Midstream Partners, L.P.
20191338 | G | Relo Group Inc.; Halmont Properties Corporation; Relo Group Inc.
20191339 | G | American Express Company; Benjamin Leventhal; American Express Company.
20191341 | G | LG Household & Health Care Ltd.; Cleveland NA Investor LLC; LG Household & Health Care Ltd.
20191342 | G | Horizon Group Holdings, L.P.; Oak Hill Capital Partners III, L.P.; Horizon Group Holdings, L.P.
20191353 | G | Midstates Petroleum Company, Inc.; Amplify Energy Corp.; Midstates Petroleum Company, Inc.
20191356 | G | MIP IV (ECI) AIV, L.P.; COSCO Shipping Holdings Co., Ltd.; MIP IV (ECI) AIV, L.P.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-19009 Filed 9-3-19; 8:45 am]

BILLING CODE 6750-01-P